ENVIRONMENTAL PROTECTION AGENCY

[EPA-HQ-OPP-2008-0850; FRL-9922-40]

Chlorpyrifos Registration Review; Revised Human Health Risk Assessment; Extension of Comment Period

AGENCY: Environmental Protection Agency.

ACTION: Notice; Extension of comment period.

SUMMARY: EPA issued a notice in the Federal Register of January 14, 2015, concerning the availability of the chlorpyrifos registration review; revised human health risk assessment. This document extends the comment period for 45 days, from March 16, 2015 to April 30, 2015.

DATES: Comments, identified by docket identification (ID) number EPA-HQ-OPP-2008-0850, must be received on or before: April 30, 2015.

ADDRESSES: Follow the detailed instructions provided under ADDRESSES in the Federal Register document of January 14, 2015 (80 FR 1909) (FRL-9920-64).

FOR FURTHER INFORMATION CONTACT: Joel Wolf, Pesticide Re-Evaluation Division (7508P), Office of Pesticide Programs, Environmental Protection Agency, 1200 Pennsylvania Ave. NW., Washington, DC 20460-0001; telephone number: (703) 347-0228; email address: wolf.joel@epa.gov.

SUPPLEMENTARY INFORMATION: This document extends the public comment period established in the Federal Register document of January 14, 2015. In that document, EPA announced the availability of the chlorpyrifos registration review; revised human health risk assessment. EPA received several requests to extend the comment period. EPA is hereby extending the comment period, which was set to end on March 16, 2015 to April 30, 2015.

To submit comments, or access the docket, please follow the detailed instructions provided under ADDRESSES in the Federal Register document of January 14, 2015. If you have questions, consult the person listed under FOR FURTHER INFORMATION CONTACT.

Authority: 7 U.S.C. 136 et seq.

Dated: February 19, 2015.
Richard P. Keigwin, Jr.,
Director, Pesticide Re-Evaluation Division, Office of Pesticide Programs.

[FR Doc. 2015-05844 Filed 3-12-15; 8:45 am]

BILLING CODE 6560-50-P